DEPARTMENT OF AGRICULTURE

Food Safety and Inspection Service

[Docket No. 05-027N]

Public Meeting on Advances in Pre-Harvest Reduction of Salmonella in Poultry

AGENCY: Food Safety and Inspection Service.

ACTION: Notice.

SUMMARY: The Food Safety and Inspection Service (FSIS) is announcing that it will hold a public meeting on Advances in Pre-Harvest Reduction of Salmonella in Poultry on August 25 and August 26, 2005, in Athens, GA. The meeting will consist of presentations on research and practical experiences aimed at reducing Salmonella at the poultry production level, before poultry reaches federally inspected plants.

This meeting is the first in a series of public meetings that FSIS intends to hold to discuss new approaches for strengthening food safety.

DATES: The public meeting is scheduled for August 25, 2005, from 9 a.m. to 5:30 p.m., and August 26, 2005, from 8:30 a.m. to 1 p.m.

ADDRESSES: The meeting will be held at Richard B. Russell Research Center, 950 College Station Rd., Athens, GA, 30605. A tentative agenda will be available on the FSIS Web site at http://www.fsis.usda.gov/. The official transcript of the meeting, when it becomes available, will be available in the FSIS Docket Room, Room 102 Cotton Annex, 300 12th Street, SW., Washington, DC 20250-3700.

FSIS welcomes comments on the topics to be discussed at the public meeting. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

• Electronic mail: fsis.regulationscomments@fsis.usda.gov.

All submissions received must include the Agency name and docket number 05-027N.

All comments submitted in response to this notice, as well as the official transcript, when it becomes available, will be available for public inspection in the FSIS Docket Room at the address listed above between 8:30 a.m. and 4:30 p.m., Monday through Friday. The comments also will be posted on the Agency's Web site at http://www.fsis.usda.gov/regulations_&_policies/2005_Notices_Index/index.asp.

FOR FURTHER INFORMATION CONTACT: Dr. Alice Thaler at (202) 690-2687.

Pre-registration is encouraged for this meeting. Participants who are pre-registered will have building access badges prepared in advance to facilitate their entry through security to the Richard B. Russell Research Center. To pre-register, call (800) 485-4424. Persons requiring a sign language interpreter or other special accommodations should contact Sheila Johnson at (202) 690-6498, fax: (202) 690-6500, or e-mail: Sheila.johnson@fsis.usda.gov as soon as possible.

SUPPLEMENTARY INFORMATION: The scientific community continues to work with animal producers to investigate methods to reduce food safety hazards at federally inspected meat and poultry establishments through the use of specific production practices. A food safety hazard is defined in 9 CFR 417 as any biological, chemical or physical property that may cause a food to be unsafe for human consumption. FSIS' public health mandate requires that the Agency consider hazards that could arise during animal production as part of a comprehensive strategy to prevent foodborne illness. Therefore, FSIS believes that a prudent establishment will address food safety hazards on the farm, including the use of animal production technologies and practices, as a means to control and reduce pathogen hazards at slaughter. Although much has been learned about the ecology of biological, chemical, and physical hazards during animal production, there are, as yet, no specific poultry production practices addressing biological hazards that consistently and predictably lead to improvement in food safety. Results are promising in some cases, but these avenues are still under investigation.

A key point to recognize is that future hazard reduction interventions will likely arise from those areas currently under research or from new areas added to the research agenda. It is important, therefore, for producers to be aware of the practices being explored, so that they can provide input into the process and raise concerns about (1) areas that are not under investigation, (2) the economic impact of implementing new practices on the farm, and (3) the impact of food safety hazards on the marketability of their products.

One food safety hazard that seems susceptible to attack through interventions at the producer level is Salmonella. FSIS is looking at Salmonella as a pathogen of concern because of the risks that it presents for public health. Salmonella, a group of bacteria that can cause diarrheal illness in humans, is the most frequently reported cause of foodborne illness. Contaminated foods are often of animal origin, such as beef, poultry, milk, or eggs, but all foods, including vegetables, may become contaminated. FSIS Hazard Analysis and Critical Control Point (HACCP) verification testing for all meat and poultry product categories in calendar year 2003, the most recent year for which FSIS has data, showed that the percentage of samples positive for Salmonella was lower than the pre-HACCP baselines which were derived from a statistical sampling of plants nationwide. However, based on current regulatory verification samples in classes of poultry, the percentage of samples positive for Salmonella in calendar year 2003 increased from calendar year 2002 for broilers, ground chicken, and ground turkey. FSIS is concerned about the food safety hazard associated with the increased percentage of positive regulatory verification samples in these classes of poultry.¹

¹ FSIS. Progress Report on Salmonella Testing of Raw Meat and Poultry Products, 1998-2003. Available at http://www.fsis.usda.gov/PDF/Salmonella_Progress_Report_1998-2003.pdf.

To pursue initiatives related to production practices that will result in lower, more controlled levels of Salmonella in and on birds when they are offered for slaughter, FSIS is holding a public meting on Advances in Pre-Harvest Reduction of Salmonella in Poultry. The meeting has three goals.

The first goal is to determine whether interventions available to producers can form the basis for best management practices to reduce the load of Salmonella in poultry before slaughter. The second goal is to identify promising interventions and to determine what steps need to be taken to make these interventions to limit and control Salmonella available at the poultry production level. The third goal is to identify which research gaps with respect to Salmonella control at the production level should be the focus of the research community, including government, academia, and industry.

Based on the input from the meeting, and any other information available to the Agency, FSIS will develop compliance guideline materials for producers that address pre-harvest food safety issues and Salmonella.

Additional Public Notification

Public awareness of all segments of rulemaking and policy development is important. Consequently, in an effort to better ensure that minorities, women, and persons with disabilities are aware of this notice, FSIS will announce it on-line through the FSIS Web page located at http://www.fsis.usda.gov. FSIS will also make copies of this Federal Register publication available through the FSIS Constituent Update, which is used to provide information regarding FSIS policies, procedures, regulations, Federal Register Notices, FSIS public meetings, recalls, and other types of information that could affect or would be of interest to our constituents/stakeholders. The update is communicated via Listserv, a free e-mail subscription service consisting of industry, trade, and farm groups, consumer interest groups, allied health professionals, scientific professionals, and other individuals who have requested to be included. The update is also available on-line through the FSIS Web page located at http://www.fsis.usda.gov. Through Listserv and its Web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives and notices. Customers can add or delete subscriptions themselves and have the option to protect their accounts with passwords.

Done in Washington, DC, on: August 1, 2005.
Barbara J. Masters,
Acting Administrator.

[FR Doc. 05-15428 Filed 8-2-05; 8:45 am]

BILLING CODE 3410-DM-P